DEPARTMENT OF ENERGY

Federal Energy Regulatory Commission

[Project No. 2735-104]

Pacific Gas and Electric Company; Notice of Application Ready for Environmental Analysis and Soliciting Comments, Recommendations, Terms and Conditions, and Prescriptions

Take notice that the following hydroelectric application has been filed with the Commission and is available for public inspection.

a. Type of Application: New Major License.

b. Project No.: 2735-104.

c. Date filed: April 18, 2024.

d. Applicant: Pacific Gas and Electric Company.

e. Name of Project: Helms Pumped Storage Project.

f. Location: The existing project is located about 50 miles northeast of the city of Fresno, on the North Fork Kings River and Helms Creek, in Fresno and Madera Counties, California. The project currently occupies 3,346.6 acres of Federal land administered by the U.S. Forest Service, 28.36 acres of Federal land managed by the U.S. Bureau of Reclamation, and 0.07 acre of land managed by the Bureau of Land Management. The project, with the proposed project boundary modifications, would occupy a total of 2,887.7 acres of Federal land administered by the U.S. Forest Service, 28.5 acres of Federal land managed by the U.S. Bureau of Reclamation, and 2.22 acres of land managed by the Bureau of Land Management.

g. Filed Pursuant to: Federal Power Act 16 U.S.C. 791a-825r.

h. Applicant Contact: Dave Gabbard, Vice President, Power Generation, Pacific Gas and Electric Company, 300 Lakeside Drive, Oakland, CA 94612; telephone at (650) 207-9705; email at David.Gabbard@pge.com.

i. FERC Contact: Evan Williams, Project Coordinator, West Branch, Division of Hydropower Licensing; telephone at (202) 502-8138; email at Evan.Williams@ferc.gov.

j. Deadline for filing comments, recommendations, terms and conditions, and prescriptions: on or before 5:00 p.m. Eastern Time on July 28, 2025; reply comments are due on or before 5:00 p.m. Eastern Time on September 11, 2025.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Helms Pumped Storage Project (P-2735-104).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The existing Helms Pumped Storage Project (project) includes: (1) a 132-foot-long, by 89-foot-wide, by 58.5-foot-high concrete intake-discharge structure (Courtright Intake-Discharge Structure), with metal trash racks, in Courtright Lake; (2) one 4,243-foot-long tunnel (Tunnel 1) composed of two sections: (a) a 3,312-foot-long, 27-foot-diameter concrete-lined section; and (b) a 931-foot-long, 22-foot-diameter steel-lined section; (3) a 32.5-foot-long, by 38-foot-wide, by 45-foot-high gatehouse; (4) a 206-foot-long, 22-foot-diameter, above-ground steel pipe that connects Tunnel 1 and Tunnel 2; (5) one 9,016-foot-long tunnel (Tunnel 2) composed of two sections: (a) a 764-foot-long, 22-foot-diameter steel-lined section; and (b) a 8,252-foot-long, 27-foot-diameter concrete-lined section; (6) a 600-foot-long adit of an unknown diameter, with an adit plug with frame and gate; (7) a 535-foot-high, vertical shaft surge chamber for Tunnel 2 with a 47-foot-diameter lower section and 60-foot-diameter upper section, with 12 feet of the chamber exposed above grade; (8) a 2,205-foot-long penstock composed of three sections: (a) a 1,070-foot-long, 27-foot-diameter concrete-lined section; (b) a 300-foot-long, 27-foot-diameter concrete-lined section; and (c) a 330-foot-long, 27-foot-diameter concrete-lined manifold section, that branches into three, 505-foot-long steel-lined penstocks, that reduce in diameter from 15.5 feet to 11.5 feet, to 10.5 feet until connecting to the turbine-generator; (9) a 336-foot-long, by 83-foot-wide, by 125-foot-high excavated rock chamber underground powerhouse that includes three, 360-megawatt (MW) vertical Francis-type pump-turbine units, for a total installed capacity of 1,080 MW, and three, vertical indoor generators with an approximate total nameplate capacity of 1,212 MW; (10) a 3,727-foot-long, 27-foot-diameter concrete-lined tunnel (Tunnel 3); (11) a 984-foot-tall, vertical shaft surge chamber for Tunnel 3 with a 27-foot-diameter lower section and a 44-foot-diameter upper section that transitions into a 10-foot-diameter air shaft topped by a 10-foot-tall, 14-foot-diameter protective device above grade; (12) an 88-foot-long, by 78-foot-wide, by 51-foot-high concrete intake-discharge structure (Wishon Intake-Discharge Structure), with metal trash racks, in Lake Wishon; (13) a 220-foot by 265-foot above ground, fenced switchyard; (14) an underground transformer bank of 10 transformers with a capacity of 150,000 kilo-volt-amperes each; (15) a 3,723-foot-long, 30-foot-wide, 25-foot-high powerhouse access tunnel; and (16) appurtenant facilities.

Although the project facilities do not include any dam or reservoir, PG&E operates the project for power generation using Courtright Lake (upper reservoir) and Lake Wishon (lower reservoir), impounded by Courtright Dam and Wishon Dam, respectively, which are licensed project facilities of the Hass-Kings River Hydroelectric Project (Project No. P-1988). Courtright Lake has a usable storage area of approximately 123,184 acre-feet and normal maximum and minimum water surface elevations of 8,184 feet and 8,050 feet, respectively. Lake Wishon has a usable storage area of approximately 128,606 acre-feet and normal maximum and minimum water surface elevations of 6,550 feet and 6,428.9 feet, respectively. To generate power, water is released from Courtright Lake through the Courtright Intake-Discharge Structure, Tunnel 1, Tunnel 2, and the penstock, into the powerhouse and is discharged through Tunnel 3 and the Wishon Intake-Discharge Structure into Lake Wishon. During periods of low energy demand, water is pumped through these project facilities in reverse (i.e., from Lake Wishon to Courtright Lake). The average annual generation (2015 to 2020) was 736.6 gigawatt-hours.

The project generators are connected to the regional electric grid by: (1) an underground transformer bank of 10 transformers with a capacity of 150,000 kilo-volt-amperes each; (2) a 220-foot by- 265-foot above ground, fenced switchyard; and (3) a 60.7-mile-long, double-circuit 230-kilovolt (kV) transmission line that connects the Helms switchyard to PG&E's interconnection point with the grid at the non-project Gregg Substation. The project also includes an approximately 1.8-mile-long, 21-kV distribution line from the non-project Woodchuck Substation to the Helms Headquarters and Helms Powerhouse and an approximately 2-mile-long, 21-kV distribution line from the non-project Woodchuck Substation to the Helms Support Facility and non-project Wishon Village Recreational Vehicle Park.

The project also includes: (1) the Helms Headquarters facility with ancillary facilities; (2) the Helms Support Facility with ancillary facilities; (3) project recreation facilities including the: (a) Courtright Boat Launch; (b) Trapper Springs Campground; (c) Marmot Rock Campground; (d) Wee-Mee-Kute Fishing Access; (e) Wishon Boat Launch; (f) Lily Pad Campground; (g) Upper Kings River Group Campground; (h) Wishon Dam Fishing Access; (i) Short Hair Creek Fishing Access; (j) Coolidge Meadow Fishing Access; (k) Helms Picnic Area; (l) Upper Kings River Fishing Access, and their ancillary facilities and amenities; (3) an approximately 80-acre Wildlife Habitat Management Area; (4) three, approximately 87-foot-diameter asphalt-surfaced helicopter landing pads; (5) 36.45 miles of non-recreation, vehicular project roads and trails; and (6) 1.08 miles of non-recreation, pedestrian project trails.

m. A copy of the application is available for review via the internet through the Commission's Home Page (https://www.ferc.gov), using the “eLibrary” link. Enter the docket number, excluding the last three digits in the docket number field, to access the document. For assistance, contact FERC at FERCOnlineSupport@ferc.gov or call toll free, (886) 208-3676 or TTY (202) 502-8659.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. A license applicant must file no later than 60 days following the date of issuance of this notice: (1) a copy of the water quality certification; (2) a copy of the request for certification, including proof of the date on which the certifying agency received the request; or (3) evidence of waiver of water quality certification.

o. Procedural schedule: The application will be processed according to the following schedule. Revisions to the schedule will be made as appropriate.

Milestone | Date
Deadline for Filing Comments, Recommendations, and Agency Terms and Conditions/Prescriptions | July 28, 2025.
Licensee's Reply to REA Comments | September 11, 2025.

Dated: May 29, 2025.
Debbie-Anne A. Reese,
Secretary.

[FR Doc. 2025-10170 Filed 6-3-25; 8:45 am]

BILLING CODE 6717-01-P